DEPARTMENT OF HOMELAND SECURITY

Coast Guard

33 CFR Part 110

[USCG-2023-0749]

RIN 1625-AA01

Establish Anchorage Ground; Port Westward Anchorage, Columbia River, Oregon and Washington

AGENCY: Coast Guard, DHS.

ACTION: Final rule.

SUMMARY: The Coast Guard is establishing an anchorage ground near Port Westward, Oregon on the Columbia River. The purpose of this rule is to improve safety of navigation by providing additional safe anchorages for commercial vessels in the navigable waters of the Columbia River.

DATES: This rule is effective January 3, 2025.

ADDRESSES: To view documents mentioned in this preamble as being available in the docket, go to https://www.regulations.gov, type USCG-2023-0749 in the search box and click “Search.” Next, in the Document Type column, select “Supporting & Related Material.”

FOR FURTHER INFORMATION CONTACT: If you have questions about this rule, call or email Lieutenant Commander Jesse Wallace, Waterways Management Division, Sector Columbia River, U.S. Coast Guard; telephone 503-240-9319, email SCRWWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

In the last several years, the Columbia River Marine Transportation System has seen an increase in commercial traffic and vessel size near the Lower Columbia River, thus creating a concern for anchorage capacity within the river system. The Columbia River Steamship Operators Association and the Columbia River Pilots formally requested the Coast Guard review and evaluate the establishment of this new anchorage ground to address the safety and navigation concerns with the expanding vessel traffic in the Lower Columbia River. In response, on December 28, 2023, the Coast Guard published a notice of proposed rulemaking (NPRM) titled “Establish Anchorage Ground; Port Westward Anchorage, Columbia River, Oregon and Washington” (88 FR 89644). There we stated why we issued the NPRM and invited comments on our proposed regulatory action to establish this anchorage ground. During the comment period that ended February 26, 2024, we received 39 comments. The Coast Guard opened another 30-day comment period that ended June 7, 2024 (89 FR 38853), in which we received an additional 3 comments. In total, we had 90 days of comment period and received 42 total comments, including some duplicate submissions.

III. Legal Authority and Need for Rule

Under Title 33 of the Code of Federal Regulations (CFR) 109.05, the Commandant of the Coast Guard has delegated the authority to establish anchorage grounds to Coast Guard District Commanders. The Coast Guard establishes anchorage grounds under Section 7 of the Rivers and Harbors Act of March 4, 1915, as amended (38 Stat. 1053; 46 U.S.C. 70006) and places these regulations in Title 33 CFR part 110, subpart B. The purpose of this rule is to establish a Federal anchorage ground in the Lower Columbia River to improve safety of navigation by creating additional anchorage grounds for the increased vessel traffic transiting through the Lower Columbia River. The Coast Guard is issuing this rule under authority in 46 U.S.C. 70034.

IV. Discussion of Comments, Changes, and the Rule

As noted above, we received 42 total comments on our NPRM during the 2 comment periods. A few of the comments were duplicates. All comments received fully support this rule. We received significant input regarding how important it is to establish this anchorage, with many describing the environmental, safety, and economic benefits of this proposed anchorage, particularly in light of the increase in ship size in the channel since the 1970's. One comment suggested adding a stern anchor buoy to the anchorage. The United States Army Corps of Engineers is responsible for the establishment of stern anchor buoys, interested parties may request the addition of a buoy after the completion of this regulatory process. Another comment asked the Coast Guard to consider two observations regarding the establishment of the proposed anchorage ground. First, the anchorage ground depth. Second, a charted sandwave area that intersects the proposed anchorage ground. Below is the Coast Guard's response to these observances.

A. Anchorage Ground Depth

The range of depths within the anchorage ground will accommodate a variety of vessel types and configurations. 33 U.S.C. 365 authorizes the United States Army Corps of Engineers to dredge within, and adjacent to, Federal anchorages established by the Coast Guard. Environmental reviews and approvals are required prior to dredging in the anchorage.

B. Horizontal Datum

The NPRM included the boundary coordinates for the anchorage ground as latitude and longitude without a statement of the associated horizontal datum. The associated horizontal datum has been implemented into the regulatory text at the end of this rulemaking. All other regulatory text remaining unchanged.

C. Final Rule

This rule establishes a Federal anchorage ground in the vicinity of Port Westward, in the Lower Columbia River. The specific coordinates for this anchorage ground are included in the regulatory text at the end of this document.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the location and size of the anchorage ground, as well as the vessel traffic and anchoring data provided by the Coast Guard Navigation Center. The regulation will ensure approximately 0.336 square miles of anchorage grounds are designated to provide necessary commercial deep draft anchorages and enhance the navigational safety of commercial vessels transiting to, from, and within the Columbia River. The impact on routine navigation is expected to be minimal because the anchorage ground is located outside the federal channel and is consistent with current anchorage habits. When not occupied, vessels will be able to maneuver in, around, and through the anchorages.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to use the anchorage ground may be small entities, for reasons stated in section V.A above, this rule would not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves establishing an anchorage ground, Port Westward Anchorage, in an area traditionally used by commercial ships for anchoring in the Lower Columbia River system; and increasing the navigation safety and anchorage capacity of the river system. It is categorically excluded from further review under paragraph L59(a) of Appendix A, Table 1 of DHS Instruction Manual 023-01-001-01, Rev. 1. A Record of Environmental Consideration supporting this determination is available in the docket. For instructions on locating the docket, see the ADDRESSES section of this preamble.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 2071; 46 U.S.C. 70006, 70034; 33 CFR 1.05-1; Department of Homeland Security Delegation No. 00170.1 Revision No. 01.3.

2. Amend § 110.228 by adding paragraphs (a)(12) through (14) to read as follows:

§ 110.228 Columbia River, Oregon and Washington.

(a) * * *

(12) [Reserved]

(13) [Reserved]

(14) Port Westward Anchorage. All waters in the vicinity of Port Westward, Oregon, bound by a line connecting the following points, which are based on the World Geodetic System (WGS 84):

Latitude | Longitude
46°10′16.80″ | 123°12′58.80″
46°10′48.60″ | 123°11′25.20″
46°10′43.20″ | 123°11′21.60″
46°09′59.40″ | 123°12′46.80″

* * * * *

Dated: November, 26, 2024.
Charles E. Fosse,
Rear Admiral, U.S. Coast Guard, Commander, Thirteenth Coast Guard District.

[FR Doc. 2024-28311 Filed 12-3-24; 8:45 am]

BILLING CODE 9110-04-P